FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than June 15, 2022.

A. Federal Reserve Bank of Minneapolis (Chris P. Wangen, Assistant Vice President), 90 Hennepin Avenue, Minneapolis, Minnesota 55480-0291. Comments can also be sent electronically to MA@mpls.frb.org:

1. The Hoeven Family Limited Liability Limited Partnership, Bismarck, North Dakota; John H. Hoeven, III and Marcela Hoeven Samson, as general partners, both of Minot, North Dakota; and the John H. Hoeven, III 2021 Irrevocable Spousal Lifetime Access Trust (Trust), as limited partner, Bismarck, North Dakota; First Western Bank and Trust, as trustee of the Trust and Jon Backes, as trust protector of the Trust, both of Minot, North Dakota; to join the Hoeven family shareholder control group, a group acting in concert, to retain voting shares of Westbrand, Inc., and thereby indirectly retain voting shares of First Western Bank and Trust, both of Minot, North Dakota.

Board of Governors of the Federal Reserve System.
Michele Taylor Fennell,
Deputy Associate Secretary of the Board.

[FR Doc. 2022-11776 Filed 6-1-22; 8:45 am]

BILLING CODE P